DEPARTMENT OF COMMERCE

National Oceanic and Atmospheric Administration

DEPARTMENT OF THE INTERIOR

Fish and Wildlife Service

50 CFR Part 404

[Docket No. 060824225-6031-02]

RIN 0648-AU82

Northwestern Hawaiian Islands Marine National Monument; Correction

AGENCIES: National Oceanic and Atmospheric Administration (NOAA), Department of Commerce (DOC); United States Fish and Wildlife Service (USFWS), Department of the Interior (DOI).

ACTION: Final rule; correcting amendment.

SUMMARY: NOAA and the USFWS published final regulations for the Northwestern Hawaiian Islands Marine National Monument (Monument) on August 29, 2006. The preamble and regulatory text of that notice contained errors pertaining to the electronic mail address for submitting comments on the information collection requirements of that rule, the reference to the dimensions of the outer boundary of the Monument, and the numbering sequence for one paragraph. This final rule corrects those errors. This rule makes no substantive change to the regulations.

DATES: This correction is effective February 7, 2007.

SUPPLEMENTARY INFORMATION: Regulations published by NOAA and the USFWS on August 29, 2006 to codify the prohibitions and management measures set forth in Presidential Proclamation 8031 (71 FR 36443, June 26, 2006) establishing the Monument, contained an error in the instructions for submitting comments on the information collection requirements of the final rule via electronic mail, the reference to the dimensions of the Monument's outer boundary, and the numbering sequence for one paragraph.

The first error appeared in the first sentence of the ADDRESSES section of the notice. Here the notice incorrectly refers to a “proposed rule” and provides the incorrect e-mail address. That sentence should read “Submit written comments regarding the burden-hour estimates or other aspects of the information collection requirements contained in this final rule by e-mail to Diana Hynek at dHynek@doc.gov.” The incorrect e-mail address also appeared in the SUPPLEMENTARY INFORMATION section of the notice in the first column on page 51135 below the table. The e-mail address should read dHynek@doc.gov.

The second error is in the third sentence of the first paragraph of the SUPPLEMENTARY INFORMATION section of the notice, where dimensions for the outer boundary of the Monument were given. The dimensions are for the Monument, not the outer boundary. Therefore, this sentence should read “The Monument is approximately 100 nmi wide and extends approximately 1200 nmi around coral islands, seamounts, banks, and shoals.”

The regulatory text of that rule also contained an error in the numbering sequence for one paragraph. Paragraph 404.11(f)(1)(ii) should have been designated as paragraph 404.11(f)(1)(i)(A). Paragraphs 404.11(f)(1)(ii)(A) and (B) and paragraph 404.11(f)(1)(iii) should have been numbered paragraphs 404.11(f)(1)(i)(B) through (D), respectively. Paragraph 404.11(f)(1)(iv) should have been designated as paragraph 404.11(f)(1)(ii). This final rule makes these corrections. The substance of the regulations remains unchanged.

Classification

Administrative Procedure Act

The Secretaries find good cause to waive notice and comment on this correction, pursuant to 5 U.S.C. 533(b)(B), and the 30-day delay in effective date pursuant to 5 U.S.C. 553(d). Notice and comment are unnecessary because this correction is a minor, technical change in an e-mail address and the numbering of the regulations as well as elimination of erroneous references to the notice as a proposed rule and the dimensions of the Monument's outer boundary. The substance of the regulations remains unchanged. Therefore, this correction is being published as a final regulation and is effective February 7, 2007.

E.O. 12866

This rule has been determined to be not significant for purposes of E.O. 12866.

List of Subjects in 50 CFR Part 404

Administrative practice and procedure, Coastal zone, Fish, Fisheries, Historic preservation, Intergovernmental relations, Marine resources, Monuments and memorials, Natural resources, Reporting and recordkeeping requirements, Wildlife, Wildlife refuges.

Dated: November 16, 2006.
Conrad C. Lautenbacher Jr.,
Undersecretary of Commerce for Oceans and Atmosphere.
Dated: January 5, 2007.
David M. Verhey,
Acting Assistant Secretary for Fish and Wildlife and Parks.

Accordingly, NOAA and USFWS correct 50 CFR part 404 as follows:

PART 404—NORTHWESTERN HAWAIIAN ISLANDS MARINE NATIONAL MONUMENT

1. The authority citation for 50 CFR part 404 continues to read as follows:

Authority: 16 U.S.C. 431 et seq.; 16 U.S.C. 460k-3; 16 U.S.C. 1801 et seq.; 16 U.S.C. 742f; 16 U.S.C. 742l; and 16 U.S.C. 668dd-ee; 16 U.S.C. 1361 et seq.; 16 U.S.C. 1531 et seq.; Pub. L. No. 106-513, § 6(g) (2000).

2. In § 404.11, paragraph (f)(1) is revised to read as follows:

§ 404.11 Permitting procedures and criteria.

* * * * *

(f) Additional findings, criteria, and requirements for special ocean use permits.

(1) In addition to the findings listed in paragraph (d) of this section, the following requirements apply to the issuance of a permit for a special ocean use under paragraph (c)(5) of this section:

(i) Any permit for a special ocean use issued under this section:

(A) Shall authorize the conduct of an activity only if that activity is compatible with the purposes for which the Monument is designated and with protection of Monument resources;

(B) Shall not authorize the conduct of any activity for a period of more than 5 years unless renewed;

(C) Shall require that activities carried out under the permit be conducted in a manner that does not destroy, cause the loss of, or injure Monument resources; and

(D) Shall require the permittee to purchase and maintain comprehensive general liability insurance, or post an equivalent bond, against claims arising out of activities conducted under the permit and to agree to hold the United States harmless against such claims;

(ii) Each person issued a permit for a special ocean use under this section shall submit an annual report to the Secretaries not later than December 31 of each year which describes activities conducted under that permit and revenues derived from such activities during the year.

* * * * *

[FR Doc. 07-545 Filed 2-6-07; 8:45 am]

BILLING CODE 3510-NK-P